DEPARTMENT OF HOUSING AND URBAN DEVELOPMENT

[Docket No. FR-6282-N-01]

The Performance Review Board

AGENCY: Office of the Deputy Secretary, Housing and Urban Development (HUD).

ACTION: Notice of appointments.

SUMMARY: The Department of Housing and Urban Development announces the establishment of the Departmental Performance Review Board (PRB) to make recommendations to the appointing authority on the performance and compensation of its Senior Executive Service (SES), Senior Level (SL) and Senior Technical (ST) professionals. The following persons may be named to serve on the PRB from 2021 to 2025. They are listed by type of appointment, name, and official title under SUPPLEMENTARY INFORMATION.

FOR FURTHER INFORMATION CONTACT: Persons desiring any further information about the PRB and its members may contact Kristen B. Bartlett, Director, Office of Executive Resources, Department of Housing and Urban Development, Washington, DC 20410. Telephone (202) 718-7943. (This is not a toll-free number). Persons with hearing or speech impairments may access these numbers via TTY by calling the Federal Relay Service at 800-877-8339 (this is a toll-free number).

SUPPLEMENTARY INFORMATION:

Name | Official title
CAREER SES
AMMON, MATTHEW E | DIR OFC OF HEALTHY HOMES & LEAD HAZARD CONTROL.
BALLARD, DANIEL L | DEP ASST CHIEF FINANCIAL OFFICER, BUDGET.
BASTARACHE, DANIELLE L | DEP ASST SECRETARY, PUBLIC HOUSING & VOUCHER PRO.
BELL, KEISHA D | ASSOC GEN COUNSEL, ETHICS & PERSONNEL LAW.
BERENBAUM, DAVID L | DEP ASST SECRETARY, OFC OF HOUSING COUNSELING.
BETTS, SUSAN A | DEP ASST SECRETARY, FINANCE & BUDGET.
BLOM, DOMINIQUE G | GEN DEP ASST SECRETARY, PUBLIC & INDIAN HOUSING.
BOHLING, GAYLE E | DEP GEN COUNSEL, OPERATIONS.
BOYD, JANICE L | CHIEF MANAGEMENT OFFICER.
BROWN, AMY L | DEP GEN COUNSEL, HOUSING.
BRYON, JEMINE A | DEP ASST SECRETARY, SPECIAL NEEDS PROGRAMS.
BURKE, PATRICIA M | DIR OFC OF MULTIFAMILY PRODUCTION.
CHIN, ARTHUR A | CHIEF DIGITAL SERVICES OFFICER.
CLARK, PRISCILLA W | DEP CHIEF HUMAN CAPITAL OFFICER.
CLEMMENSEN, CRAIG T | DIR DEPARTMENTAL ENFORCEMENT CTR.
COOKE JR, KEVIN R | CHIEF FOIA & PRIVACY OFFICER.
COOPER-JONES, BARBARA M | SR VP OFC OF ENTERPRISE DATA TECH SOLUTIONS.
CORSIGLIA, NANCY E | CHIEF ADMINISTRATIVE OFFICER.
CULLEN, DEANDRA J | DEP ASST SECRETARY, OFC OF POLICY, LEGISLATIVE INITIATIVE.
DAUGHERTY, JOHN T | SR VP OFC OF SECURITIES OPERATIONS.
DAVIS, THOMAS R | DIR OFC OF RECAPITALIZATION.
DRAYNE, MICHAEL R | SR VP STRATEGIC PLANNING, POLICY AND COMMUNICATIONS.
DUPRE, BRIAN A | ASSOC GEN COUNSEL, LITIGATION.
ENZEL, DAVID H | GEN DEP ASST SECRETARY, FAIR HOUSING & EQUAL OPPORTUNITY.
FERRY, SHYLON C | DEP ASST SECRETARY, OPERATION.
FLEMING SCOTT, JIMMY | DEP CHIEF PROCUREMENT OFFICER.
FLEMING, EKANEM O | CHIEF BUSINESS & IT RESOURCE MGMT.
FLOM, RONALD C | CHIEF PROCUREMENT OFFICER.
FORERO, JAIME E | DEP ASST SECRETARY, OPERATIONS & MGMT.
FORRESTER, ALTHEA M | ASSOC GEN COUNSEL, ASST HOUSING & COMMUNITY DEVELOPMENT.
FRECHETTE, HEIDI J | DEP ASST SECRETARY, NATIVE AMERICAN PROG.
GAITHER, FELICIA R | DEP ASST SECRETARY, FIELD OPERATIONS.
GARCIA ROLON, JUAN C | ASSOC DEP ASST SECRETARY, REAC.
GETCHIS, JOHN F | SR VP OFC OF CAPITAL MARKETS.
GOLRICK, JANET A | CHIEF DISASTER & NATIONAL SECURITY OFFICER.
HADLEY, JOY L | DIR OFC OF LENDER ACTIVITIES & PROGRAM COMPLIANCE.
HALLIDAY, TOBIAS | DIR OFC OF ASSET MGMT & PORTFOLIO OVERSIGHT.
HIMES, IVERY W | DEP DIR, DISASTER INITIATIVES.
IJAZ, SAIRAH R | ASST CHIEF FINANCIAL OFFICER, SYSTEMS.
JANECEK, JILL A | CHIEF TECHNOLOGY OFFICER.
JEWITT, BRADLEY S | DEP CHIEF ADMINISTRATIVE OFFICER.
JOHNSON TURNER, BRENDA M | ASSOC DEP ASST SECRETARY, REAC.
JOHNSON, CALVIN C | DEP ASST SECRETARY, OFC OF RESEARCH, EVALUATION & MONITORING.
KEITH, GREGORY A | SR VP & CHIEF RISK OFFICER.
KIM, HUN S | CHIEF INFORMATION SECURITY OFFICER.
KOME, JESSIE H | DIR OFC OF BLOCK GRANT ASSIST.
KORNEGAY, EMILY M | ASST CHIEF FINANCIAL OFFICER, BUDGET.
KOSKINEN, LARRY A | CHIEF RISK OFFICER.
KUBACKI, MELAJO K | ASST CHIEF FINANCIAL OFFICER, FINANCIAL MGMT.
LITTLE, JEFFREY D | ASSOC DEP ASST SECRETARY, MULTFMLY HOUSING PROGRAMS.
LOFINMAKIN, ADETOKUNBO | SR VP & CHIEF FINANCIAL OFFICER.
LUKOFF, ROGER M | DEP ASST SECRETARY, HEALTHCARE PROGRAMS.
MATTHEWS, MONICA M | DIR STRATEGIC PLANNING & MGMT.
MCNEELY, KEVIN L | GEN DEP ASST SECRETARY, ADMINISTRATION.
MICHALSKI, LORI A | CHIEF HUMAN CAPITAL OFFICER.
MILLS, KRISTA | DIR FIELD POLICY & MGMT.
MONTGOMERY, MATISHA D | CHIEF LEARNING OFFICER.
MORRIS, VANCE T | ASSOC GEN DEP ASST SECRETARY, HOUSING.
MULDERIG, ROBERT E | DEP ASST SECRETARY, PUBLIC HOUSING INVESTMENTS.
MULRAIN, LISA V | ASSOC GEN COUNSEL, FINANCE, PROCUREMENT & ADMINISTRATIVE.
NARODE, DANA M | ASSOC GEN COUNSEL, PROGRAM ENFORCEMENT.
NGUYEN, NHIEN T | CHIEF PERFORMANCE OFFICER.
NIGAM, NITA | ASST CHIEF FINANCIAL OFFICER, ACCOUNTING.
PAO, JEAN L | DIR OFC OF SMALL & DISADVANTAGED BUSINESS UTILIZATION.
PARKER, TENNILLE S | DIR DISASTER RECOVERY & SPECIAL ISSUES DIVISION.
PETERSON, CHRISTINA M | DIR OFC OF HUMAN CAPITAL SERVICES.
PORDZIK, LESLIE A | SR VP MORTGAGE-BACKED SECURITIES.
PRESTON, TAWANNA | SR VP OFC OF MGMT OPERATIONS & SR ADVISOR TO OFC OF PRES.
RAMOS, RUSSELL A | DEP CHIEF INFO SECURITY OFFICER.
REEVES, ANTHONY B | DEP ASST SECRETARY, OPERATIONS.
RICHARDSON, TODD M | GEN DEP ASST SECRETARY, POLICY DEVELOPMENT & RESEARCH.
ROBINSON, JOZETTA R | DIR EXECUTIVE SECRETARIAT.
SANTA ANNA, AARON | ASSOC GEN COUNSEL, LEGISLATIONS & REGULATIONS.
SARDONE, VIRGINIA M | DIR OFC OF AFFORDABLE HOUSING.
SARGEANT, JUAN C | DEP CHIEF INFO OFFICER, INFRASTRUCTURE & OPERATION.
SAUNDERS, ELISSA O | DIR OFC OF SINGLE FAMILY PROGRAMS DEVELOPMENT.
SCOTT, PAUL A | BUSINESS CHANGE & INTEGRATION OFFICER.
SHERIFF, KEVIN V | ASSOC DEP ASST SECRETARY, PUBLIC HOUSING & VOUCHER.
TOLBERT, SHERECE M | ASSOC GEN COUNSEL, INSURED HOUSING & URBAN DEVELOPMENT.
TOMCHICK III, GEORGE J | DEP CHIEF FINANCIAL OFFICER.
USOWSKI, KURT G | DEP ASST SECRETARY, ECONOMIC AFFAIRS.
WEBBER, CHRISTOPHER S | PRIN DEP CHIEF INFORMATION OFFICER.
WORDEN, JEANINE M | ASSOC GEN COUNSEL, FAIR HOUSING.
NON-CAREER SES
BAILEY, PEGGY F | SR ADVISOR
BROWN, VICTORIA C | DEPUTY CHIEF OF STAFF.
BRUNDAGE, SARAH J | GEN DEP ASST SECRETARY, CONGRESSIONAL & INTERGOVERNMENTAL RELATIONS.
BUSH, KEVIN J | DEP ASST SECRETARY, GRANT PROGRAMS.
CARLILE, JOSEPH W | SR ADVISOR.
CHO, RICHARD S | SR ADVISOR, HOUSING & SERVICE.
HANDELMAN, ETHAN D | DEP ASST SECRETARY, MULTIFAMILY HOUSING.
JEMISON II, JAMES A | PRIN DEP ASST SECRETARY, COMMUNITY PLANNING & DEVELOPMENT.
JONES, JENNIFER C | CHIEF OF STAFF.
JOSEPH, JULIENNE Y | DEP ASST SECRETARY, SINGLE FAMILY HOUSING.
KEEGAN, ROBIN J | DEP ASST SECRETARY, ECONOMIC DEV.
KOLLURI, LOPA P | PRIN DEP ASST SECRETARY, HOUSING.
MCCARGO, ALANNA B | SR ADVISOR.
METRAKAS, EUGENIA M | CHIEF OPERATIONS OFFICER.
PEREZ, MICHELE P | ASST DEP SECRETARY, FIELD POLICY & MGMT.
SAMBERG CHAMPION, SASHA M | DEPUTY GEN COUNSEL, ENFORCEMENT.
WINTER, BENJAMIN J | DEP ASST SECRETARY, POLICY DEVELOPMENT.
SES LIMITED
GARVIN, JOHN L | SR ADVISOR, ORGANIZATION, TRANSFORMATION & MODERNIZATION.

Authority: 5 U.S.C. Sec. 4314(c); 5 CFR 430.311.

Dated: September 14, 2021.
Adrianne Todman,
Deputy Secretary.

[FR Doc. 2021-20205 Filed 9-17-21; 8:45 am]

BILLING CODE 4210-67-P